DEPARTMENT OF HEALTH AND HUMAN SERVICES

Administration for Children and Families

Notice of Award of Non-Competitive Grant

AGENCY: Administration on Children, Youth, and Families (ACYF), ACF, DHHS.

ACTION: Notice.

CFDA No.: 93.010, Community-Based Abstinence Education.

Legislative Authority: Title XI, Section 1110 of the Social Security Act.

Amount of Award: $2,500,000.

Project Period: September 30, 2007-March 30, 2009 (18 months).

Justification for the Exception to Competition: ACYF will award service grant funds without competition to the Prevention Research Center at the University of Texas Health Science Center at Houston to build on a longitudinal study they are currently conducting of adolescent pregnancy approaches. They are the only research group currently conducting a study of size and scope that provides for access to schools and study participants for the collection of additional data needed. Building on the existing study already underway saves the cost of initiating a study from the ground up.

FOR FURTHER INFORMATION CONTACT: Stan Koutstaal, Ph.D., Director, Division of Abstinence Education, Family and Youth Services Bureau, ACYF, ACF, DHHS. Portals Building, Suite 800, 1250 Maryland Avenue, SW., Washington, DC 20024; 202-401-6959.

Dated: August 24, 2007.
Joan E. Ohl,
Commissioner, Administration on Children, Youth and Families.

[FR Doc. E7-17216 Filed 8-30-07; 8:45 am]

BILLING CODE 4184-01-P